DEPARTMENT OF TRANSPORTATION

Federal Transit Administration

Limitation on Claims Against Proposed Public Transportation Project—Carteret Ferry Terminal, Borough of Carteret, Middlesex County, New Jersey

AGENCY: Federal Transit Administration (FTA), Department of Transportation (DOT).

ACTION: Notice.

SUMMARY: This notice announces final environmental actions taken by the Federal Transit Administration (FTA) regarding the Carteret Ferry Terminal project, Borough of Carteret, Middlesex County, New Jersey. The purpose of this notice is to publicly announce FTA's environmental decisions on the subject project, and to activate the limitation on any claims that may challenge these final environmental actions.

DATES: A claim seeking judicial review of FTA actions announced herein for the listed public transportation project will be barred unless the claim is filed on or before March 14, 2025.

FOR FURTHER INFORMATION CONTACT: Kathryn Loster, Assistant Chief Counsel, Office of Chief Counsel, (312) 705-1269, or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov/about/regional-offices/regional-offices.

This notice applies to all FTA decisions on the listed project as of the issuance date of this notice and all laws under which such actions were taken, including, but not limited to, NEPA (42 U.S.C. 4321-4375), section 4(f) requirements (49 U.S.C. 303), section 106 of the National Historic Preservation Act (54 U.S.C. 306108), Endangered Species Act (16 U.S.C. 1531), Clean Water Act (33 U.S.C. 1251), the Uniform Relocation and Real Property Acquisition Policies Act (42 U.S.C. 4601), and the Clean Air Act (42 U.S.C. 7401-7671q). This notice does not, however, alter or extend the limitation period for challenges of project decisions subject to previous notices published in the Federal Register. The project and actions that are the subject of this notice follow:

Project name and location: Carteret Ferry Terminal (Project), Borough of Carteret, Middlesex County, New Jersey.

Project sponsor: Borough of Carteret, Middlesex County, New Jersey.

Project description: The Project involves the construction of a new three-story 12,500 square foot per floor commuter ferry terminal facility, including landside and waterside facilities, along the Borough's Arthur Kill waterfront. The Project also includes floating docks for two (2) 80-foot ferries each accommodating 149 passengers, floating wave attenuators, and gangways. The Project will serve the Borough's commuter ferry service with regularly scheduled routes to Manhattan, NY.

Final agency actions: Section 106 no historic properties effected determination, dated January 23, 2024; Finding of No Significant Impact, dated September 25, 2024.

Supporting documentation: Carteret Ferry Terminal Environmental Assessment (EA), dated September 25, 2024. The FONSI and associated documents can be viewed and downloaded from: https://www.carteret.net/carteretferryterminalenvironmentalassessment/.

Authority: 23 U.S.C. 139(l)(1).

Megan Blum,
Deputy Associate Administrator for Planning and Environment.

[FR Doc. 2024-23717 Filed 10-11-24; 8:45 am]

BILLING CODE 4910-57-P